SECURITIES AND EXCHANGE COMMISSION

[Release No. 34-104010; File No. SR-CBOE-2025-067]

Self-Regulatory Organizations; Cboe Exchange, Inc.; Notice of Filing and Immediate Effectiveness of a Proposed Rule Change To Add Options on the Cboe Magnificent 10 Index to Certain Rules and To Change the Market-Maker Appointment Tier for Certain Index Options

September 22, 2025.

Pursuant to Section 19(b)(1) of the Securities Exchange Act of 1934 (the “Act”),¹ and Rule 19b-4 thereunder,² notice is hereby given that on September 10, 2025, Cboe Exchange, Inc. (the “Exchange” or “Cboe Options”) filed with the Securities and Exchange Commission (the “Commission”) the proposed rule change as described in Items I, II, and III below, which Items have been prepared by the Exchange. The Commission is publishing this notice to solicit comments on the proposed rule change from interested persons.

¹ 15 U.S.C. 78s(b)(1).

² 17 CFR 240.19b-4.

I. Self-Regulatory Organization's Statement of the Terms of Substance of the Proposed Rule Change

Cboe Exchange, Inc. (the “Exchange” or “Cboe Options”) proposes (1) to update certain Rules regarding the listing of options on the Cboe Magnificent 10 Index (“MGTN options”), which are eligible to be listed for trading pursuant to Rule 4.13(b) and Rule 19b-4(e) under the Securities Exchange Act (the “Act”) ³ to those rules; and (2) to update Rule 5.50 regarding the Market-Maker appointment costs of certain index options. The text of the proposed rule change is provided in Exhibit 5.

³ See 17 CFR 240.19b-4(e).

The text of the proposed rule change is also available on the Commission's website (https://www.sec.gov/rules/sro.shtml), the Exchange's website (https://www.cboe.com/us/options/regulation/rule_filings/bzx/), and at the principal office of the Exchange.

II. Self-Regulatory Organization's Statement of the Purpose of, and Statutory Basis for, the Proposed Rule Change

In its filing with the Commission, the Exchange included statements concerning the purpose of and basis for the proposed rule change and discussed any comments it received on the proposed rule change. The text of these statements may be examined at the places specified in Item IV below. The Exchange has prepared summaries, set forth in sections A, B, and C below, of the most significant aspects of such statements.

A. Self-Regulatory Organization's Statement of the Purpose of, and Statutory Basis for, the Proposed Rule Change

1. Purpose

The Exchange proposes (1) to update certain Rules regarding the listing of options on the Cboe Magnificent 10 Index (“MGTN options”), which are eligible to be listed for trading pursuant to Rule 4.13(b) and Rule 19b-4(e) of the Act; and (2) to update Rule 5.50 regarding the Market-Maker appointment costs of certain index options.

First, the proposed rule change amends various Rules to add the Cboe Magnificent 10 Index to those Rules. The Cboe Magnificent 10 Index is a narrow-based index (as defined in Rule 4.11) that satisfies the initial listing criteria of a narrow-based index set forth in Rule 4.10(b). Therefore, in accordance with Rule 4.10(b) and Rule 19b-4(e) under the Act, options on the Cboe Magnificent 10 Index are eligible for trading on the Exchange without a rule filing.⁴ The proposed rule change makes the following administrative changes in connection with the eligibility of MGTN options for trading on the Exchange:

⁴ The Exchange intends to submit a Form 19b-4(e) to the Securities and Exchange Commission (the “Commission”) regarding the listing of MGTN options no later than five days after the Exchange begins listing those options for trading.

• add the reporting authority (Cboe Global Indices, LLC) for the Cboe Magnificent 10 Index to Rule 4.12(c);

• add Cboe Magnificent 10 Index to the list of index options that will be European-style index in Rule 4.13(a)(3);

• add Cboe Magnificent 10 Index to the list of index options that will be A.M.-settled in Rule 4.13(a)(4); and

• add MGTN options to the list of options that are part of appointment unit tier AA and assign MGTN options a Market-Maker appointment weight of .001 in Rule 5.50(g).⁵

⁵ This is the appointment weight these options would initially receive upon listing if they were not part of appointment unit tier AA pursuant to Rule 5.50(g), and therefore this proposed rule change has no impact on the appointment weight of MGTN options.

These proposed changes are administrative and have no impact on how MGTN options may trade on the Exchange.

Second, the proposed rule change amends Rule 5.50(g) to add the following index options to appointment unit tier AA and assign each of those options a Market-Maker appointment weight of .001: the Cboe Bitcoin U.S. ETF Index (CBTX), the Cboe Mini Bitcoin U.S. ETF Index (MBTX), the S&P Equal Weight Index (SPEQF) (full-value), and the S&P Equal Weight Index (SPEQX) (1/10th). These index options currently have a Market-Maker appointment weight of .001, and thus this proposed rule change has no impact on these options.

2. Statutory Basis

The Exchange believes the proposed rule change is consistent with the Act and the rules and regulations thereunder applicable to the Exchange and, in particular, the requirements of Section 6(b) of the Act.⁶ Specifically, the Exchange believes the proposed rule change is consistent with the Section 6(b)(5) ⁷ requirements that the rules of an exchange be designed to prevent fraudulent and manipulative acts and practices, to promote just and equitable principles of trade, to foster cooperation and coordination with persons engaged in regulating, clearing, settling, processing information with respect to, and facilitating transactions in securities, to remove impediments to and perfect the mechanism of a free and open market and a national market system, and, in general, to protect investors and the public interest. Additionally, the Exchange believes the proposed rule change is consistent with the Section 6(b)(5) ⁸ requirement that the rules of an exchange not be designed to permit unfair discrimination between customers, issuers, brokers, or dealers.

⁶ 15 U.S.C. 78f(b).

⁷ 15 U.S.C. 78f(b)(5).

⁸ Id.

In particular, the Exchange believes the proposed rule change will remove impediments to and perfect the mechanism of a free and open market and a national market system, because it will add transparency to the rules regarding certain indexes on which the Exchange may list options for trading. The proposed rule changes to add the Cboe Magnificent 10 Index to certain Rules will further add transparency to the Rules regarding an index on which the Exchange may list options in accordance with Rule 19b-4(e) under the Exchange Act and regarding certain terms (e.g., type, settlement) of the options on this index, which transparency ultimately benefits investors. The proposed rule change to add certain other index options to Market-Maker appointment unit tier AA with a fixed .001 appointment cost will remove impediments to and perfect the mechanism of a free and open market and a national market system, and, in general, to protect investors and the public interest, as all other index options the Exchange lists are currently part of that same appointment unit tier. Therefore, this proposed rule change will add consistency and transparency to the Rules regarding Market-Maker appointment weights of index options. As noted above, these options currently have a Market-Maker appointment weight of .001, so the proposed rule change has no practical impact on these options.

B. Self-Regulatory Organization's Statement on Burden on Competition

The Exchange does not believe that the proposed rule change will impose any burden on competition that is not necessary or appropriate in furtherance of the purposes of the Act. The proposed rule changes to update certain rules to add the Cboe Magnificent 10 Index, options on which are eligible to be listed for trading pursuant to Rule 4.13(b) and Rule 19b-4(e) under the Act, to those rules will impose no burden on intramarket or intermarket competition that is not necessary or appropriate in furtherance of the purpose of the Act, as there are solely administrative changes that have no impact on how options overlying this index may trade on the Exchange. The proposed rule change to add certain index options to appointment unit tier AA with an appointment cost of .001 will impose no burden on intramarket or intermarket competition that is not necessary or appropriate in furtherance of the purpose of the Act, as they are merely codifying the current appointment weight for these options and have no impact on how options overlying those indexes may trade. Additionally, all Market-Makers will continue to be subject to the same appointment weight for these options.

C. Self-Regulatory Organization's Statement on Comments on the Proposed Rule Change Received From Members, Participants, or Others

The Exchange neither solicited nor received written comments on the proposed rule change.

III. Date of Effectiveness of the Proposed Rule Change and Timing for Commission Action

The foregoing rule change has become effective pursuant to Section 19(b)(3)(A) of the Act ⁹ and paragraph (f) of Rule 19b-4 ¹⁰ thereunder. At any time within 60 days of the filing of the proposed rule change, the Commission summarily may temporarily suspend such rule change if it appears to the Commission that such action is necessary or appropriate in the public interest, for the protection of investors, or otherwise in furtherance of the purposes of the Act. If the Commission takes such action, the Commission will institute proceedings to determine whether the proposed rule change should be approved or disapproved.

⁹ 15 U.S.C. 78s(b)(3)(A).

¹⁰ 17 CFR 240.19b-4(f).

IV. Solicitation of Comments

Interested persons are invited to submit written data, views and arguments concerning the foregoing, including whether the proposed rule change is consistent with the Act. Comments may be submitted by any of the following methods:

Electronic Comments

• Use the Commission's internet comment form (https://www.sec.gov/rules/sro.shtml); or

• Send an email to rule-comments@sec.gov. Please include file number SR-CBOE-2025-067 on the subject line.

Paper Comments

• Send paper comments in triplicate to Secretary, Securities and Exchange Commission, 100 F Street NE, Washington, DC 20549-1090.

All submissions should refer to file number SR-CBOE-2025-067. This file number should be included on the subject line if email is used. To help the Commission process and review your comments more efficiently, please use only one method. The Commission will post all comments on the Commission's internet website (https://www.sec.gov/rules/sro.shtml). Copies of the filing will be available for inspection and copying at the principal office of the Exchange. Do not include personal identifiable information in submissions; you should submit only information that you wish to make available publicly. We may redact in part or withhold entirely from publication submitted material that is obscene or subject to copyright protection. All submissions should refer to file number SR-CBOE-2025-067 and should be submitted on or before October 16, 2025.

For the Commission, by the Division of Trading and Markets, pursuant to delegated authority.¹¹
¹¹ 17 CFR 200.30-3(a)(12).
Sherry R. Haywood,
Assistant Secretary.

[FR Doc. 2025-18554 Filed 9-24-25; 8:45 am]

BILLING CODE 8011-01-P